DEPARTMENT OF THE INTERIOR

Fish and Wildlife Service

[FWS-R8-R-2008-N0292; 80230-1265-0000-S3]

Klamath Marsh National Wildlife Refuge, Klamath County, OR

AGENCY: Fish and Wildlife Service, Interior.

ACTION: Notice of availability; request for comments: draft comprehensive conservation plan/environmental assessment.

SUMMARY: We, the U.S. Fish and Wildlife Service (Service), announce the availability of a Draft Comprehensive Conservation Plan/Environmental Assessment (CCP/EA) for the Klamath Marsh National Wildlife Refuge for public review and comment. The CCP/EA, prepared pursuant to the National Wildlife Refuge System Improvement Act of 1997, and in accordance with the National Environmental Policy Act of 1969, describes how the Service will manage the Refuge for the next 15 years. Draft compatibility determinations for several existing and proposed public uses are also available for review and public comment with the Draft CCP/EA.

DATES: Written comments must be received at the address below on or before Friday, September 18, 2009.

ADDRESSES: For more information on obtaining documents and submitting comments, see “Review and Comment” under SUPPLEMENTARY INFORMATION. For public meeting location see “Public Meetings.”

FOR FURTHER INFORMATION CONTACT: Mark Pelz, Chief, Refuge Planning, 2800 Cottage Way, W-1832, Sacramento, CA 95825, phone (916) 414-6500.

SUPPLEMENTARY INFORMATION: The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation.

We initiated the CCP/EA for the Klamath Marsh National Wildlife Refuge in February 2007. At that time and throughout the process, we requested, considered, and incorporated public scoping comments in numerous ways. Our public outreach has included a Federal Register notice of intent published on January 29, 2007, agency and Tribal scoping meetings, two public workshops, planning updates, and a CCP Web page. We received over 180 scoping comments during the 60-day public comment period.

Background

Klamath Marsh was established in 1958 and is located in south central Oregon on the east slope of the Cascade Mountain Range along the Williamson River. The Service owns approximately 40,960 acres within the 49,583-acre acquisition boundary. The Refuge protects one of the largest remaining natural freshwater marshes on the west coast. Other important habitats on the refuge include sedge meadow, grassland, riverine, riparian scrub, and ponderosa pine forest. The refuge protects habitat for a variety of unique species including greater sandhill cranes, yellow rails, Oregon spotted frogs, red-naped sapsuckers, pygmy nuthatches, bald eagles, beaver, and red band trout. The entire Refuge is located within the former reservation of the Klamath Tribes.

Alternatives

The Draft CCP/EA identifies and evaluates three alternatives for managing Klamath Marsh National Wildlife Refuge for the next 15 years. The alternative that appears to best meet the Refuge purposes is identified as the preferred alternative. The preferred alternative is identified based on the analysis presented in the Draft CCP/EA, which may be modified following the completion of the public comment period based on comments received from other agencies, Tribal governments, non-governmental organizations, or individuals.

Under Alternative A, the no action alternative, we would continue to manage the Refuge as we have in the recent past. No major changes in habitat management would occur. The existing wildlife observation, photography, environmental education, and interpretation programs would remain unchanged.

Under Alternative B, (preferred alternative), the Service would restore the portion of the Williamson River and Big Spring Creek on the Refuge; substantially improve management of emergent marsh, meadows, ponderosa pine forest and aspen to increase habitat value for migratory birds and other wildlife; improve and expand visitor services by developing new trails, interpretive exhibits, an environmental education program, and a visitor contact station; maintain existing hunting and fishing programs with minor modifications; increase cultural resources protection; and recommend no units for wilderness designation. The Service would also revise and update the MOU with the Klamath Tribes regarding subsistence hunting and gathering.

Under Alternative C, the Service would restore the portions of the Williamson River and Big Springs Creek on the Refuge; improve management of emergent marsh, meadows, ponderosa pine forest and aspen using a more limited tool set (fire only for non-forested areas); minimally expand opportunities for non-consumptive public uses; eliminate public hunting; increase cultural resource protection; and recommend 11,165 acres for wilderness designation. The Service would also revise and update the MOU with the Tribes regarding subsistence hunting and gathering.

Public Meetings

The locations, dates, and times of public meetings will be listed in a planning update distributed to the project mailing list and posted on the Refuge Web site at http://www.fws.gov/klamathbasinrefuges/KlamathMarshCCP/kmarshccp.html.

Review and Comment

Copies of the Draft CCP/EA may be obtained by writing to the U.S. Fish and Wildlife Service, Attn: Mark Pelz, CA/NV Refuge Planning Office, 2800 Cottage Way, W-1832, Sacramento, CA 95825-1846. Copies of the Draft CCP/EA may be viewed at this address or at the Klamath National Wildlife Refuge, HC 63 Box 303, Chiloquin, OR 97624. The Draft CCP/EA will also be available for viewing and downloading online at: http://www.fws.gov/klamathbasinrefuges/KlamathMarshCCP/kmarshccp.html.

Comments on the Draft CCP/EA should be addressed to: Mark Pelz, Chief, Refuge Planning, 2800 Cottage Way, W-1832, Sacramento, CA 95825-1846. Comments may also be faxed to (916) 414-6497 or if you choose to submit comments via electronic mail, submit them to the following address: fw8plancomments@fws.gov.

At the end of the review and comment period for this Draft CCP/EA, comments will be analyzed by the Service and addressed in the Final CCP/EA. Before including your address, phone number, e-mail address, or other personal identifying information in your comment, you should be aware that your entire comment—including your personal identifying information—may be made publicly available at any time. While you can ask us in your comment to withhold your personal identifying information from public review, we cannot guarantee that we will be able to do so.

Dated: July 28, 2009.
Ren Lohoefener,
Regional Director, Pacific Southwest Region, Sacramento, California.

[FR Doc. E9-18427 Filed 8-3-09; 8:45 am]

BILLING CODE 4310-55-P